LIBRARY OF CONGRESS

Copyright Royalty Board

[Docket No. 15-CRB-0010-CA]

Adjustment of Cable Statutory License Royalty Rates

AGENCY: Copyright Royalty Board, Library of Congress.

ACTION: Notice announcing commencement of proceeding with request for petitions to participate.

SUMMARY: The Copyright Royalty Judges (Judges) announce the commencement of a proceeding to adjust the rates for the cable statutory license described in section 111 of the Copyright Act. The Judges also announce the date by which a party who wishes to participate in the proceeding must file its Petition to Participate and pay the $150 filing fee.

DATES: Petitions to Participate and the filing fee are due no later than July 20, 2015.

ADDRESSES: This notice and request is also posted on the agency's Web site (www.loc.gov/crb) and on Regulations.gov (www.regulations.gov). Parties who plan to participate should see How to Submit Petitions to Participate in the Supplementary Information section below for physical addresses and further instructions.

FOR FURTHER INFORMATION CONTACT: LaKeshia Keys, CRB Program Specialist, by telephone at (202) 707-7658, or by email at crb@loc.gov.

SUPPLEMENTARY INFORMATION:

Background

Section 111 of the Copyright Act grants a statutory copyright license to cable television systems for the retransmission of over-the-air television and radio broadcast stations to their subscribers. 17 U.S.C. 111(c). In exchange for the license, cable operators submit royalty payments and statements of account detailing their retransmissions semiannually to the Copyright Office. 17 U.S.C. 111(d)(1). The Copyright Office deposits the royalties into the United States Treasury for later distribution to copyright owners of the broadcast programming that the cable systems retransmit. 17 U.S.C. 111(d)(2).

A cable system calculates its royalty payments in accordance with the statutory formula described in 17 U.S.C. 111(d)(1). Royalty rates are based upon a cable system's gross receipts from subscribers who receive retransmitted broadcast signals. For rate calculation purposes, cable systems are divided into three tiers based on their gross receipts (small, medium, and large). 17 U.S.C. 111(d)(1)(B) through (F). Both the applicable rates and the tiers are subject to adjustment. 17 U.S.C. 801(b)(2). Every five years persons with a significant interest in the royalty rates may file petitions to initiate a proceeding to adjust the rates. 17 U.S.C. 804(a) and (b). No person with a significant interest has filed a petition to initiate a proceeding in 2015.¹ The Judges must, therefore, publish notice in the Federal Register announcing the commencement of a proceeding and calling for Petitions to Participate. See 17 U.S.C. 803(b)(1).

¹ The cable rates were last adjusted in 2005. Although the Judges commenced a rate proceeding relating to the 2010 rate adjustment, the Judges terminated it when passage of the Satellite Television Extension and Localism Act of 2010, Public Law 111-175, rendered the proceeding unnecessary. Order Granting Request to Terminate Proceeding, Docket No. 2010-1 CRB Cable Rate (July 13, 2010).

Petitions to Participate

Parties filing Petitions to Participate must comply with the requirements of section 351.1(b) of the Copyright Royalty Board's regulations. 37 CFR 351.1(b).

How to Submit Petitions to Participate

Any party wishing to participate in the proceeding to determine cable royalty rates for 2015 through 2019 shall submit to the Copyright Royalty Board the filing fee (US $150), an original Petition to Participate, five paper copies, and an electronic copy on a CD or other portable memory device in Portable Document Format (PDF) that contains searchable, accessible text (not a scanned image of text). Participants should conform filed electronic documents to the Judges' Guidelines for Electronic Documents posted online at www.loc.gov/crb/docs/Guidelinesfor_Electronic_Documents.pdf. Participants shall deliver Petitions to Participate to only one of the following addresses.

U.S. mail: Copyright Royalty Board, P.O. Box 70977, Washington, DC 20024-0977; or

Overnight service (only USPS Express Mail is acceptable): Copyright Royalty Board, P.O. Box 70977, Washington, DC 20024-0977; or

Commercial courier: Address package to: Copyright Royalty Board, Library of Congress, James Madison Memorial Building, LM-403, 101 Independence Avenue SE., Washington, DC 20559-6000. Deliver to: Congressional Courier Acceptance Site, 2nd Street NE., and D Street NE., Washington, DC; or

Hand delivery: Library of Congress, James Madison Memorial Building, LM-401, 101 Independence Avenue SE., Washington, DC 20559-6000.

Dated: June 16, 2015.
Jesse M. Feder,
Copyright Royalty Judge.

[FR Doc. 2015-15137 Filed 6-18-15; 8:45 am]

BILLING CODE 1410-72-P